DEPARTMENT OF COMMERCE

National Oceanic and Atmospheric Administration

50 CFR Part 226

[Docket No. 150817733-6519-02]

RIN 0648-BF32

Endangered and Threatened Species; Critical Habitat for the Endangered Carolina and South Atlantic Distinct Population Segments of Atlantic Sturgeon; Correction

AGENCY: National Marine Fisheries Service (NMFS), National Oceanic and Atmospheric Administration (NOAA), Commerce.

ACTION: Proposed rule; correction.

SUMMARY: NMFS published in the Federal Register of June 3, 2016, a document proposing to designate critical habitat for the endangered Carolina distinct population segment of the Atlantic sturgeon (Carolina DPS of Atlantic sturgeon) and the endangered South Atlantic distinct population segment of the Atlantic sturgeon (South Atlantic DPS of Atlantic sturgeon) pursuant to section 4 of the Endangered Species Act (ESA). This correction clarifies what types of man-made structures are not included in the proposed designation.

DATES: Comments on this proposal must be received by September 1, 2016.

ADDRESSES: You may submit comments, identified by the docket number NOAA-NMFS-2015-0157, by either of the following methods:

• Electronic Submissions: Submit all electronic public comments via the Federal eRulemaking Portal. Go to www.regulations.gov/#!docketDetail;D=NOAA-NMFS-2015- 0157 click the “Comment Now” icon, complete the required fields, and enter or attach your comments.

• Mail: Assistant Regional Administrator, Protected Resources Division, NMFS, Southeast Regional Office, 263 13th Avenue South, St. Petersburg, FL 33701. Instructions: You must submit comments by one of the above methods to ensure that we receive, document, and consider them. Comments sent by any other method, to any other address or individual, or received after the end of the comment period, may not be considered. All comments received are a part of the public record and will generally be posted to http://www.regulations.gov without change. All Personal Identifying Information (for example, name, address, etc.) voluntarily submitted by the commenter may be publicly accessible. Do not submit Confidential Business Information or otherwise sensitive or protected information. NMFS will accept anonymous comments (enter “N/A” in the required fields if you wish to remain anonymous).

FOR FURTHER INFORMATION CONTACT: Jason Rueter, NMFS, Southeast Regional Office, 727-824-5312, Jason.Rueter@noaa.gov; Andrew Herndon, Southeast Regional Office, 727-824-5312, Andrew.Herndon@noaa.gov; Lisa Manning, NMFS, Office of Protected Resources, 301-427-8466, Lisa.Manning@noaa.gov.

Correction

The proposed rule that published in the Federal Register on June 3, 2016 (81 FR 36078), contained misleading language regarding what areas were not to be considered part of the proposed designation. The original language inadvertently identified “marinas” and “maintained channels” as examples of areas not included. Because marinas and maintained channels may contain the physical features essential for the conservation of the species, these areas should be included in critical habitat. Further, the original language did not specify a date by which such structures would have to be in place to be considered “existing”. Therefore, we are clarifying what is meant by the term “man-made structures,” and we are inserting an effective date by which such structures would be covered under this provision.

Correction

In proposed rule FR Doc. 2016-12744 beginning on page 36078 in the issue of June 3, 2016, make the following correction.

§ 226.226 [Corrected]

On page 36101 in the third column, paragraph (d) of § 226.226 is corrected to read as follows:

“(d) Areas not Included in Critical Habitat. Pursuant to ESA section 3(5)(A)(i), critical habitat does not include areas containing existing (already constructed), as of [EFFECTIVE DATE OF FINAL RULE], federally authorized or permitted man-made structures where the physical features are not expected to be found, such as aids-to- navigation (ATONs), artificial reefs, boat ramps, docks, or pilings within the legal boundaries.”

Dated: June 17, 2016.
Samuel D. Rauch III,
Deputy Assistant Administrator for Regulatory Programs, National Marine Fisheries Service.

[FR Doc. 2016-15045 Filed 6-27-16; 8:45 am]

BILLING CODE 3510-22-P